DEPARTMENT OF HEALTH AND HUMAN SERVICES

Administration for Children and Families

Submission for OMB Review; Comment Request

Title: Understanding the Intersection Between TANF and Refugee Cash Assistance Services.

OMB No.: New Collection.

Description: The Administration for Children and Families (ACF), U.S. Department of Health and Human Services (HHS) is proposing data collection activities as part of a project to understand the intersection between Temporary Assistance for Needy Families (TANF) and Refugee Cash Assistance (RCA) programs. The goal of this project is to help ACF better understand how the variety of systems that assist refugees collaborate to promote common goals of self-sufficiency and employment, and how refugees' experiences might differ depending on the structure of the state (or local) program arrangements. To achieve this goal, this study aims to document what states are doing to help refugees gain self-sufficiency; if and how states are integrating RCA, TANF, and associated services to better meet the needs of refugees; and what data is collected currently, or might be collected in the future, to better understand refugee resettlement services and suggest future areas for inquiry.

The proposed data collection activities described in this notice will collect data about state policies and practices; how TANF, RCA, and associated services are provided; the respective roles of the various agencies and organizations in serving participants; how the agencies and organizations integrate services internally and/or collaborate with other organizations; refugee populations served; approaches to addressing the particular barriers refugees face; promising practices and strategies for assisting refugees; gaps in services; local labor market conditions; and experiences of refugees accessing services through these programs.

This Federal Register Notice provides the opportunity to comment on proposed new information collection activities for this study: (1) The survey of state refugee coordinators and Wilson-Fish program coordinators will be administered to state refugee coordinators in each state and the District of Columbia. The survey will collect information about state policies and practices.

(2) The four site visit interview guides will collect information about how TANF, RCA, and associated services are provided; the respective roles of the various agencies and organizations in serving participants; how the agencies and organizations integrate services internally and/or collaborate with other organizations; approaches to addressing the particular barriers refugees face; promising practices and strategies for assisting refugees; gaps in services; data maintained by programs serving refugees; and local labor market conditions.

(3) The focus group guide will collect information from program participants about the services they received, how they were delivered, their experiences attempting to achieve self—sufficiency within a rapid timeframe, and the challenges they have faced.

Respondents: Individuals receiving RCA, TANF, and related services; State Refugee Coordinators/Wilson-Fish Program Coordinators; Managers and staff at local TANF offices; local resettlement agency staff; community-based organization staff providing services to refugees; staff operating alternative cash assistance programs for refugees such as Public/Private Partnerships(s) and Wilson-Fish programs (if different from the local resettlement agency); and staff from other programs providing employability and social adjustment and cultural orientation services to refugees.

Annual Burden Estimates
Instrument | Total number of respondents | Annual number of respondents | Number of responses per respondent | Average burden hours per response | Annual burden hours
Survey of State Refugee Coordinators and Wilson-Fish Program Coordinators | 51 | 26 | 1 | .5 | 13
Site Visit Interview Guide for Public Agency Temporary Assistance for Needy Families Managers and Staff | 40 | 20 | 1 | 1.5 | 30
Site Visit Interview Guide for Public Agency Refugee Cash Assistance Managers and Staff | 40 | 20 | 1 | 1.5 | 30
Site Visit Interview Guide for Voluntary Agency Staff | 40 | 20 | 1 | 1.5 | 30
Site Visit Interview Guide for Other Community- Based Organization Staff | 40 | 20 | 1 | 1.5 | 30
Focus Group Guide for Service Recipients | 72 | 36 | 1 | 1.5 | 54

Estimated Total Annual Burden Hours: 187.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Fax: 202-395-6974, Attn: Desk Officer for the Administration for Children and Families.

Robert Sargis,
ACF Reports Clearance Officer.

[FR Doc. 2015-19922 Filed 8-12-15; 8:45 am]

BILLING CODE 4184-07-P